DEPARTMENT OF THE TREASURY

Agency Information Collection Activities; Proposed Collection; Comment Request; RESTORE Act Grants

AGENCY: Departmental Offices, Treasury.

ACTION: Notice and request for comments.

SUMMARY: The Department of the Treasury, as part of its continuing effort to reduce paperwork and respondent burden, invites the general public and other Federal agencies to comment on revisions to an existing information collection, as required by the Paperwork Reduction Act of 1995. The Office of the Fiscal Assistant Secretary, within the Department of the Treasury, is soliciting comments concerning the application, reports, and recordkeeping for the Direct Component and the Centers of Excellence Research Grants Programs under the Resources and Ecosystems Sustainability, Tourist Opportunities, and Revived Economies of the Gulf Coast States Act of 2012 (RESTORE Act). Additionally, Treasury published a final rule in the Federal Register on December 13, 2016, effective January 12, 2017, titled Regulation Regarding Nondiscrimination on the Basis of Race, Color, or National Origin in Programs or Activities Receiving Federal Financial Assistance from the Department of the Treasury, which implements Title VI of the Civil Rights Act of 1964. The final regulation provides guidance to the Department's recipients of federal financial assistance in complying with the provisions of Title VI and also promotes consistent and appropriate enforcement of Title VI by the Department's components. The information collections contained in this final rule are being added to the information collection for RESTORE Act grants.

DATES: Written comments should be received on or before December 23, 2019 to be assured of consideration.

ADDRESSES: Send comments regarding the burden estimate, or any other aspect of the information collection, including suggestions for reducing the burden, by electronic mail to restoreact@treasury.gov or contact Laurie McGilvray at 202-622-7340 in the Office of Gulf Coast Restoration.

FOR FURTHER INFORMATION CONTACT: Requests for additional information should be directed to Laurie McGilvray at 202-622-7340 in the Office of Gulf Coast Restoration or by electronic mail to restoreact@treasury.gov.

SUPPLEMENTARY INFORMATION:

OMB Control Number: 1505-0250.

Title: Application, Reports, and Recordkeeping for the Direct Component and the Centers of Excellence Research Grants Program under the RESTORE Act.

Abstract: The Department of the Treasury administers the Direct Component and the Centers of Excellence Research Grants Program authorized under the RESTORE Act. Treasury awards grants for these two programs from proceeds in connection with administrative and civil penalties paid after July 6, 2012, under the Federal Water Pollution Control Act relating to the Deepwater Horizon Oil Spill, and deposited into the Gulf Coast Restoration Trust Fund. Direct Component grants are awarded to the States of Alabama, Louisiana, Mississippi, and Texas, and 23 Florida counties and 20 Louisiana parishes and Centers of Excellence grants are awarded to the States of Alabama, Florida, Louisiana, Mississippi, and Texas. The information collection for both programs identifies the eligible recipients; describes proposed activities; determines an appropriate amount of funding; ensures compliance with the RESTORE Act, Treasury's regulations, and Federal laws and policies on grants; tracks grantee progress; and reports on the effectiveness of the programs.

The revised application and reporting forms, supplemental information, and new questions from the Treasury Office of Civil Rights and Diversity concerning data collection for civil rights compliance and enforcement purposes under Title VI of the Civil Rights Act of 1964, and similar statutes applicable to Federal financial assistance, may be obtained on Treasury's RESTORE Act website at https://home.treasury.gov/policy-issues/financial-markets-financial-institutions-and-fiscal-service/restore-act.

Type of Review: Revision of a currently approved collection.

Affected Public: State, Local, or Tribal Governments.

Estimated Number of Respondents: 52.

Frequency of Response: On occasion.

Estimated Total Number of Annual Responses: 383.

Estimated Total Annual Burden Hours: 6,086.

Estimated Total Cost: $292,128.

Request for Comments: Comments submitted in response to this notice will be summarized and included in the request for Office of Management and Budget approval. Comments may become a matter of public record. The public is invited to submit comments concerning: (a) Whether the collection of information is necessary for the proper performance of the functions of the agency, including whether the information will have practical utility; (b) the accuracy of the agency's estimate of the burden of the collection of information; (c) ways to enhance the quality, utility, and clarity of the information to be collected; (d) ways to minimize the burden of the collection of information on respondents, including the use of automated collection techniques or other forms of information technology; and (e) estimates of capital or start-up costs and costs of operation, maintenance, and purchase of services to provide information.

Authority: 44 U.S.C. 3501 et seq.

Dated: October 18, 2019.
Spencer W. Clark,
Treasury PRA Clearance Officer.

[FR Doc. 2019-23151 Filed 10-23-19; 8:45 am]

BILLING CODE 4810-25-P